DEPARTMENT OF LABOR

Employment and Training Administration

20 CFR Part 641

[Docket No. ETA-2022-0002]

RIN 1205-AC04

Senior Community Service Employment Program Conforming Changes to the Supporting Older Americans Act of 2020—Updated Guidance on Priority of Service, Durational Limits, and State Plan Submissions

AGENCY: Employment and Training Administration, Labor.

ACTION: Proposed rule; withdrawal.

SUMMARY: On February 14, 2022, the Department of Labor (Department) concurrently published both a direct final rule (DFR) and proposed rule putting forth guidance on priority service, durational limits, and State Plan submissions regarding a State's Senior Community Service Employment Program, or SCSEP. Because the Department did not receive any significant adverse comments that were within the scope of the rulemaking, the Department is withdrawing the proposed rule and is implementing the DFR.

DATES: As of May 6, 2022, the proposed rule published at 87 FR 8218 on February 14, 2022, is withdrawn.

FOR FURTHER INFORMATION CONTACT: Steven Rietzke, Chief, Division of National Programs, Tools and Technical Assistance, Office of Workforce Investment, at 202-693-3980 (this is not a toll-free number).

SUPPLEMENTARY INFORMATION: In the proposed rule, the Department stated that, if no significant adverse comments were received by March 16, 2022 (the end of the public comment period), the Department would publish a timely withdrawal in the Federal Register informing the public that the proposed rule was being withdrawn and the DFR would become effective. As the Department received no significant adverse comments within the scope of the rulemaking prior to the close of the comment period, the Department is withdrawing the proposed rule and implementing the DFR, which took effect April 15, 2022, a notice of which has been published in the Federal Register concurrent with this withdrawal.

The Department received seven comments on this rulemaking. Several of these comments were supportive of the provisions this rulemaking proposed to implement. While other comments could be characterized as negative or adverse, none of those comments were significant or within the scope of this rulemaking. One commenter was opposed to the time limit; however, that time limit is set forth in the Supporting Older Americans Act of 2020, and is, therefore, a statutory requirement beyond the purview of the rulemaking. The remaining comments were outside the scope of the rulemaking. The comments are publicly available as part of the rulemaking docket at https://www.regulations.gov/docket/ETA-2022-0002/comments.

The Department has determined that none of the negative or adverse comments are significant and within the scope of the rulemaking. Therefore, the proposed rule published at 87 FR 8186 on February 14, 2022, is withdrawn.

Angela Hanks,
Acting Assistant Secretary for Employment and Training, Labor.

[FR Doc. 2022-09492 Filed 5-5-22; 8:45 am]

BILLING CODE 4510-FN-P